DEPARTMENT OF HOMELAND SECURITY

U.S. Citizenship and Immigration Services

[CIS No. 2457-08; DHS Docket No. USCIS-2008-0036]

RIN 1615-ZA74

Revision to Direct Mail Program for Submitting Form N-400, Application for Naturalization, Implementation of Program

AGENCY: U.S. Citizenship and Immigration Services, DHS.

ACTION: Notice.

SUMMARY: U.S. Citizenship and Immigration Services (USCIS) is revising its Direct Mail Program so that certain filings of Form N-400, Application for Naturalization, will now be filed at a designated lockbox facility instead of a USCIS Service Center. Furthermore, if you are the spouse of a current member of the Armed Forces, this notice instructs you to now file your Form N-400 at the Nebraska Service Center (NSC), whether you are filing from within the U.S. or abroad. This notice does not change the filing location for Forms N-400 filed by members or certain veterans of the Armed Forces who are eligible to apply for naturalization under sections 328 or 329 of the Immigration and Nationality Act (the Act). All naturalization applicants filing under the military provisions, sections 328 or 329 of the Act, should file their application at the NSC regardless of geographic location.

DATES: This notice becomes effective January 22, 2009.

FOR FURTHER INFORMATION CONTACT: Kathleen Stanley, Chief, Lockbox Operations Division, Office of the Chief Financial Officer, U.S. Citizenship and Immigration Services, Department of Homeland Security, 20 Massachusetts Avenue, NW., 4th Floor, Washington, DC 20529-2130, Telephone (202) 233-2385.

SUPPLEMENTARY INFORMATION:

Background

What Is the Direct Mail Program?

The Direct Mail Program allows applicants for certain immigration benefits to send their application or petition directly to a USCIS service center or lockbox facility instead of submitting it to their local USCIS office.

The Direct Mail Program allows USCIS to:

• Standardize and more efficiently process applications by eliminating duplicative work;

• Increase staff productivity; and

• Introduce better information management tools.

The purpose and strategy of the Direct Mail Program has been discussed in detail in previous rulemaking and notices. (See 59 FR 33903, 59 FR 33985, 60 FR 22408, 61 FR 2266, 61 FR 56060, 62 FR 16607, 63 FR 891, 63 FR 892, 63 FR 13434, 63 FR 13878, 63 FR 16828, 63 FR 50584, 63 FR 8688, 63 FR 8689, 64 FR 67323, 69 FR 3380, 69 FR 4210, 70 FR 30768, 72 FR 3402, 73 FR 50336 and 73 FR 53034.)

Explanation of Changes

Will this notice change my eligibility for naturalization?

No. This notice will not affect your eligibility for naturalization. This notice only affects the filing instructions where certain Form N-400s must be mailed. Some Form N-400s that were previously filed at USCIS Service Centers must now be sent to a designated lockbox facility.

Please note that applicants filing under the military provision, sections 328 or 329 of the Act, as well as spouses of current members of the Armed Forces, have separate filing instructions. Filing changes will be discussed in detail in the following charts.

Where should I send my Form N-400 and all supporting documentation?

Please refer to the following charts for the filing location to send your completed Form N-400 and supporting documentation.

Armed Forces Applicants and Spouses of Current Members of the Armed Forces
If . . . | Then mail to . . .
You are a member of the Armed Forces or a veteran, and you are eligible to apply for naturalization under sections 328 or 329 of the Immigration and Nationality Act (the Act); or | Nebraska Service Center, P.O. Box 87426, Lincoln, NE 68501-7426.
You are the spouse of a current member of the Armed Forces | Courier and Express Mail Deliveries: Nebraska Service Center, 850 S. Street, Lincoln, NE 68508.

Non-Armed Forces Applicants
If . . . | Then mail to . . .
You reside in:
Alaska | USCIS Lockbox Facility USCIS, P.O. Box 21251, Phoenix, AZ 85036. Courier and Express Mail Deliveries, Attn: N400, 1820 E Skyharbor Circle S Floor 1, Phoenix, AZ 85034.
Arizona
California
Colorado
Hawaii
Idaho
Illinois
Indiana
Iowa
Kansas
Michigan
Minnesota
Missouri
Montana
Nebraska
Nevada
North Dakota
Ohio
Oregon
South Dakota
Utah
Washington
Wisconsin
Wyoming
Territory of Guam
Northern Marina Islands
You reside in:
Alabama | USCIS Lockbox Facility USCIS, P.O. Box 299026, Lewisville, TX 75029. Courier and Express Mail Deliveries, USCIS, Attn: N400, 2501 S State Hwy 121 Bldg. #4, Lewisville, TX 75067.
Arkansas
Connecticut
Delaware
DC
Florida
Georgia
Kentucky
Louisiana
Maine
Maryland
Massachusetts
Mississippi
New Hampshire
New Jersey
New Mexico
New York
North Carolina
Oklahoma
Pennsylvania
Puerto Rico
Rhode Island
South Carolina
Tennessee
Texas
Vermont
Virginia
West Virginia
U.S. Virgin Islands

What happens if I file a Form N-400 covered by this notice at the wrong location?

During the first 30 days after this notice takes affect, USCIS will forward incorrectly addressed Form N-400s to the proper address, rather than reject it. USCIS will forward any improperly addressed Form N-400s covered by this notice as follows:

• Any Form N-400 from non-Armed Forces applicants will be forwarded to either the Dallas or Phoenix lockbox facilities.

• Any Form N-400 from Armed Forces applicants and the spouses of current members of the Armed Forces will be forwarded to the Nebraska Service Center.

Any applications forwarded within this time period will be considered properly filed when received at either the Dallas or Phoenix lockbox facilities, or the Nebraska Service Center. After this 30-day transition period, any Form N-400 covered by this notice, which is received at a location other than the appropriate location as defined in the updated Form N-400 filing instructions provided in this notice, will be returned with an explanation directing the applicant to mail it to the appropriate processing facility.

Is USCIS amending the Form N-400 Instructions?

Yes. USCIS is currently amending the instructions to the Form N-400. The revisions will include the new filing addresses, the requirement for passport style photos and the revision will provide clarification of the grounds for rejection of an application. When available, the new form will be posted on the USCIS Web site (http://www.uscis.gov).

Where may I find information related to eligibility requirements for naturalization?

You may find general eligibility requirements for naturalization at our Web site (http://www.uscis.gov). You may also download “A Guide to Naturalization (Form M-476),” which provides information on the benefits and responsibilities of citizenship, an overview of the naturalization process, and eligibility requirements.

Paperwork Reduction Act

We will be amending the instructions to the Form N-400 to reflect the new filing instructions. Accordingly, we will provide the Office of Management and Budget with a copy of the amended form through the automated Regulatory Office Combined Information System (ROCIS). Changing the filing instructions will not have any effect on the reporting burden hours. The OMB control number for this collection is 1615-0052.

Dated: December 17, 2008.
Michael Aytes,
Acting Deputy Director, U.S. Citizenship and Immigration Services.

[FR Doc. E8-30531 Filed 12-22-08; 8:45 am]

BILLING CODE 9111-97-P